DEPARTMENT OF THE INTERIOR

Office of the Secretary

43 CFR Part 2

[Docket No. DOI-2018-0017]

RIN 1093-AA26

Freedom of Information Act Regulations

AGENCY: Office of the Secretary, Interior.

ACTION: Proposed rule; extension of comment period.

SUMMARY: The Department of Interior (Department) extends the comment period for its December 28, 2018, notice of proposed rulemaking (NPRM) concerning the regulations the Department follows in processing records under the Freedom of Information Act. Due to a technical glitch on www.regulations.gov in mid-January, the Department believes it is appropriate to extend the comment period an additional day to ensure interested parties have the full 30 days to submit their responses to the NPRM. Therefore, the Department extends the deadline for the submission of comments from January 28, 2019, to January 29, 2019.

DATES: The comment period for the NPRM published December 28, 2019, at 83 FR 67175, is extended. Comments must be received on or before January 29, 2019.

ADDRESSES: You may submit comments on the rulemaking by either of the methods listed below. Please use Docket No. DOI-2018-0017 in your message.

1. Federal eRulemaking Portal: https://www.regulations.gov. Follow the instructions on the website for submitting comments.

2. U.S. mail, courier, or hand delivery: Executive Secretariat—FOIA regulations, Department of the Interior, 1849 C Street NW, Washington, DC 20240.

FOR FURTHER INFORMATION CONTACT: Cindy Cafaro, Office of Executive Secretariat and Regulatory Affairs, 202-208-5342.

SUPPLEMENTARY INFORMATION:

Public Participation and Request for Comments

The Department encourages you to participate by submitting comments and related materials. The Department will consider all comments and material received during the comment period and may change the proposed rule based on your comments.

Background

The December 28, 2018, NPRM (83 FR 67175) asked for public comment on the regulations that the Department follows in processing records under the Freedom of Information Act. The revisions clarify and update procedures for requesting information from the Department and procedures that the Department follows in responding to requests from the public.

Extension of the Public Comment Period

The comment period for the NPRM was set to expire on January 28, 2019 (83 FR 67175). Due to a technical glitch on www.regulations.gov in mid-January, the Department believes it is appropriate to extend the comment period an additional day to ensure interested parties have the full 30 days to submit their responses to the NPRM. Accordingly, the Department extends the comment period for all comments on the NPRM to January 29, 2019.

James Cason,
Associate Deputy Secretary.

[FR Doc. 2019-00264 Filed 1-25-19; 8:45 am]

BILLING CODE 4310-10-P